DEPARTMENT OF HEALTH AND HUMAN SERVICES

National Institutes of Health

Eunice Kennedy Shriver National Institute of Child Health & Human; Notice of Meeting

Pursuant to section 10(a) of the Federal Advisory Committee Act, as amended, notice is hereby given of a meeting of the National Advisory Board on Medical Rehabilitation Research.

The meeting will be open to the public and held as a virtual meeting. Individuals who plan to view the virtual meeting and need special assistance or other reasonable accommodations to view the meeting, should notify the Contact Person listed below in advance of the meeting.

Name of Committee: National Advisory Board on Medical Rehabilitation Research.

Date: August 18, 2020.

Time: 11:00 a.m. to 3:00 p.m. (EST).

Agenda: NICHD Director's report; NCMRR Director's report; Updates on the NIH Rehabilitation Research Conference and NIH Rehabilitation Research Plan; Scientific presentation on Data Science in Rehabilitation; Agenda Planning for the next Board meeting.

Place: National Center for Medical Rehabilitation Research, Eunice Kennedy Shriver National Institute, of Child Health and Human Development, NIH, DHHS, 6710B Rockledge Drive, Room 2116, Bethesda, MD 20892-7002 (Virtual Meeting).

Contact Person: Ralph M. Nitkin, Ph.D., Deputy Director, National Center for Medical Rehabilitation Research, Eunice Kennedy Shriver National Institute, of Child Health and Human Development, NIH, DHHS, 6710B Rockledge Drive, Room 2116, Bethesda, MD 20892-7002, Phone: (301) 402-4206, Email: RN21e@nih.gov.

The meeting will be NIH Videocast. Please select the following link for Videocast on the day of the meeting: https://videocast.nih.gov/default.asp.

Information is also available on the Institute's/Center's home page: http://www.nichd.nih.gov/about/advisory/nabmrr/Pages/index.aspx where the current roster and minutes from past meetings are posted.

(Catalogue of Federal Domestic Assistance Program Nos. 93.864, Population Research; 93.865, Research for Mothers and Children; 93.929, Center for Medical Rehabilitation Research; 93.209, Contraception and Infertility Loan Repayment Program, National Institutes of Health, HHS)

Dated: July 13, 2020.
Tyeshia M. Roberson,
Program Analyst, Office of Federal Advisory Committee Policy.

[FR Doc. 2020-15424 Filed 7-16-20; 8:45 am]

BILLING CODE 4140-01-P